DEPARTMENT OF COMMERCE

National Oceanic and Atmospheric Administration

Meeting of the Advisory Committee on Commercial Remote Sensing

ACTION: Notice of meeting.

SUMMARY: The Advisory Committee on Commercial Remote Sensing (“ACCRES” or “the Committee”) will meet March 18, 2020.

DATES: The meeting is scheduled as follows: March 18, 2020, 9 a.m.-4 p.m. There will be a one hour lunch break from 12 p.m.-1 p.m.

ADDRESSES: The meeting will be held at the George Washington University's Elliott School of International Relations located at 1957 E Street NW, Room 505, Washington, DC 20052.

FOR FURTHER INFORMATION CONTACT: Tashaun Pierre, NOAA/NESDIS/CRSRA, 1335 East West Highway, G-101, Silver Spring, Maryland 20910; (301) 713-7047 or Tashaun.pierre@noaa.gov.

SUPPLEMENTARY INFORMATION: As required by Section 10(a)(2) of the Federal Advisory Committee Act, 5 U.S.C. App. 2 (FACA) and its implementing regulations, see 41 CFR 102-3.150, notice is hereby given of the meeting of ACCRES. ACCRES was established by the Secretary of Commerce (Secretary) on May 21, 2002, to advise the Secretary of Commerce through the Under Secretary of Commerce for Oceans and Atmosphere on matters relating to the U.S. commercial remote sensing space industry and on the National Oceanic and Atmospheric Administration's activities to carry out the responsibilities of the Department of Commerce set forth in the National and Commercial Space Programs Act of 2010 (51 U.S.C. 60101 et seq.).

Purpose of the Meeting and Matters To Be Considered

The meeting will be open to the public pursuant to Section 10(a)(1) of the FACA. During the meeting, the Committee will receive updates on NOAA's Commercial Remote Sensing Regulatory Affairs activities and discuss updates to the commercial remote sensing regulatory regime. The Committee will be available to receive public comments on its activities.

Special Accommodations

The meeting is physically accessible to people with disabilities. Requests for special accommodations may be directed to Tashaun Pierre, NOAA/NESDIS/CRSRA, 1335 East West Highway, G-101, Silver Spring, Maryland 20910; (301) 713-7047 or Tashaun.pierre@noaa.gov.

Additional Information and Public Comments

In accordance with 41 CFR 102-3.140(b), the meeting room is sufficient to accommodate advisory committee members, agency staff, and a reasonable number of interested members of the public. However, to avoid overcrowding should an unexpected number of members of the public attend the meeting, ACCRES invites interested members of the public to RSVP through the following link: https://forms.gle/sfvLt8Rfj7e8C2WNA directly to Tashaun Pierre at (301) 713-7047, or by email at Tashaun.pierre@noaa.gov, by March 13, 2020. Any member of the public wishing further information concerning the meeting or who wishes to submit oral or written comments should contact Tahara Dawkins, Designated Federal Officer for ACCRES, NOAA/NESDIS/CRSRA, 1335 East West Highway, G-101, Silver Spring, Maryland 20910; (301) 713-3385 or tahara.dawkins@noaa.gov. Copies of the draft meeting agenda will be posted on the Commercial Remote Sensing Regulatory Affairs Office at https://www.nesdis.noaa.gov/CRSRA/accresMeetings.html .

ACCRES expects that public statements presented at its meetings will not be repetitive of previously-submitted oral or written statements. In general, each individual or group making an oral presentation may be limited to a total time of five minutes. Written comments sent to NOAA/NESDIS/CRSRA on or before March 12, 2020 will be provided to Committee members in advance of the meeting. Comments received too close to the meeting date will normally be provided to Committee members at the meeting.

Stephen M. Volz,
Assistant Administrator for Satellite and Information Services.

[FR Doc. 2020-04059 Filed 2-27-20; 8:45 am]

BILLING CODE 3510-HR-P